DEPARTMENT OF ENERGY

Federal Energy Regulatory Commission

[Docket Nos. EC06-29-000, et al.]

Consolidated Edison Company of New York, et al.; Electric Rate and Corporate Filings

December 1, 2005.

The following filings have been made with the Commission. The filings are listed in ascending order within each docket classification.

1. Consolidated Edison Company of New York

[Docket No. EC06-29-000]

Take notice that on November 21, 2005, Consolidated Edison Company of New York (ConEdison) pursuant to section 203 of the Federal Power Act submitted an application authorizing the purchase, acquire or take unsecured evidences of indebtedness of its affiliate Orange and Rockland Utilities, Inc., maturing not more than twelve months after their date of issue up to an amount not in excess of $200 million at any one time outstanding.

Comment Date: 5 p.m. eastern time on December 15, 2005.

2. FPL Energy Horse Hollow Wind II, LP

[Docket No. EG06-10-000]

Take notice that on November 18, 2005, FPL Energy Horse Hollow Wind II, LP (FPLE Horse Hollow II), filed with the Federal Energy Regulatory Commission an application for determination of exempt wholesale generator status pursuant to part 365 of the Commission's regulations.

FPLE Horse Hollow II states it will own a wind-powered generating facility of up to 522.5 MW located in Taylor County, Texas.

FPLE Horse Hollow II further states that copies of this application have been served on the Securities and Exchange Commission, Florida Public Service Commission, and the Public Utility Commission of Texas.

Comment Date: 5 p.m. eastern time on December 9, 2005.

3. Newmont Nevada Energy Investment LLC

[Docket No. EG06-12-000]

Take notice that on November 22, 2005, Newmont Nevada Energy Investment LLC (NNEI) tendered for filing an application for a determination that it is an exempt wholesale generator.

NNEI states that it plans to construct and contract for the operation of a new electric power plant in northern Nevada. NNEI states that the facility will be located north of Dunphy, Nevada in Eureka County and will include a coal-fired generator with a nominal capacity of approximately 200 MW.

Comment Date: 5 p.m. eastern time on January 10, 2006.

4. Cogentrix of Rocky Mount, Inc.

[Docket No. QF89-184-003]

Take notice that on November 18, 2005, Cogentrix of Rocky Mount, Inc., on behalf of itself and a direct or indirect subsidiary that has not yet been created, submitted an application for Commission recertification of its existing cogeneration facility as a qualifying facility pursuant to section 292.707(b) of the Commission regulations.

Comment Date: 5 p.m. eastern time on December 9, 2005.

5. Cogentrix of Richmond, Inc. (Unit I)

[Docket No. QF90-81-005]

Take notice that on November 18, 2005, Cogentrix of Richmond, Inc. on behalf of itself and a direct or indirect subsidiary that has not yet been created, submitted an application for Commission recertification of its existing cogeneration facility (Unit I) as a qualifying facility pursuant to section 292.207(b) of the Commission's regulations.

Comment Date: 5 p.m. eastern time on December 9, 2005.

6. Cogentrix of Richmond, Inc. (Unit II)

[Docket No. QF98-38-002]

Take notice that on November 18, 2005, Cogentrix of Richmond, Inc. on behalf of itself and a direct or indirect subsidiary that has not yet been created, submitted an application for Commission recertification of its existing cogeneration facility (Unit II) as a qualifying facility pursuant to section 292.207(b) of the Commission regulations.

Comment Date: 5 p.m. eastern time on December 9, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-7085 Filed 12-8-05; 8:45 am]

BILLING CODE 6717-01-P